DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by December 27, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: California Science Center, Los Angeles, CA, PRT-091186.

The applicant requests a permit to import one plastinated captive-born male western lowland gorilla (Gorilla gorilla gorilla) from the Institut fur Plastination, Heidelberg, Germany for the purpose of education and enhancement of the survival of the species.

Applicant: James A. Toth, Burton, MI, PRT-095425.

The applicant requests a permit to import the sport-hunted trophy of one male bontebok (Damaliscus pygargus pygargus) culled from a captive herd maintained under the management program of the Republic of South Africa, for the purpose of enhancement of the survival of the species.

Applicant: Edward W. Johnson, Houston, TX, PRT-095573.

The applicant requests a permit to import the sport-hunted trophy of one male bontebok (Damaliscus pygargus pygargus) culled from a captive herd maintained under the management program of the Republic of South Africa, for the purpose of enhancement of the survival of the species.

Applicant: Hugh Cropper, III, Ocean City, MD, PRT-096039.

The applicant requests a permit to import the sport-hunted trophy of one male bontebok (Damaliscus pygargus pygargus) culled from a captive herd maintained under the management program of the Republic of South Africa, for the purpose of enhancement of the survival of the species.

Applicant: Jonathan W. Davis, Richland, MO, PRT-094982.

The applicant requests a permit to import the sport-hunted trophy of one male bontebok (Damaliscus pygargus pygargus) culled from a captive herd in the Republic of South Africa, for the purpose of enhancement of the survival of the species.

Applicant: Feld Entertainment/Ringling Brothers, Vienna, Virginia, PRT-063771, 088351.

This corrects the language in 69 FR 54150, September 7, 2004, from “Grayslake, IL” to “Vienna, Virginia” and from “export” to “export and re-import.” The applicant requests permits to export and re-import two live captive-born Asian elephants (Elephas maximus) to world wide locations for the purpose of enhancement of the species through conservation education. The permit numbers and animals are: “Doc” or “Fish,” 063771; and “Gunther” 088351. This notification covers activities to be conducted by the applicant over a three-year period.

Endangered Marine Mammals and Marine Mammals

The public is invited to comment on the following application(s) for a permit to conduct certain activities with endangered marine mammals and/or marine mammals. The applications were submitted to satisfy requirements of the Endangered Species Act of 1973, as amended (16 U.S.C. 1531, et seq.) and/or the Marine Mammal Protection Act of 1972, as amended (16 U.S.C. 1361, et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: California Department of Fish and Game, Marine Wildlife Veterinary Care and Research Center, Santa Cruz, California, PRT-095276.

The applicant requests a permit to take up to 6 captive-held Southern sea otters (Enhydra lutris nereis), for the purpose of scientific research on the thermoregulatory effects of washing them, for the purpose of improving oil spill response capabilities and outcomes. This notification covers activities to be conducted by the applicant over a five-year period.

Applicant: The Sirenia Project, U.S. Geological Survey, Biological Resources Division, Gainesville, Florida, PRT-791721.

The applicant requests a renewal of their permit to take manatees (Trichechus manatus), up to 200 per year from the wild, for the purpose of scientific research. This notification covers activities to be conducted by the applicant over a five-year period.

Concurrent with the publication of this notice in the Federal Register, the Division of Management Authority is forwarding copies of the above applications to the Marine Mammal Commission and the Committee of Scientific Advisors for their review.

Applicant: Edward A. Bell, West Columbia, WV, PRT-095238.

The applicant requests a permit to import a polar bear (Ursus maritimus) sport hunted from the Lancaster Sound polar bear population in Canada for personal use.

Applicant: Sidney R. Wilhite, West Monroe, LA, PRT-095768.

The applicant requests a permit to import a polar bear (Ursus maritimus) sport hunted from the Lancaster Sound polar bear population in Canada for personal use.

Dated: November 12, 2004.
Michael L. Carpenter,
Senior Permit Biologist, Branch of Permits, Division of Management Authority.

[FR Doc. 04-26129 Filed 11-24-04; 8:45 am]

BILLING CODE 4310-55-P